DEPARTMENT OF ENERGY

Federal Energy Regulatory Commission

[Project No.10934-000]

Sugar River Hydro II, LLC; Notice of Authorization for Continued Project Operation

The current license for the Sugar River II Project (project) is held by Sugar River Hydro II, LLC (Sugar River Hydro) under Project No. 10934. The project is located on the Sugar River, in Sullivan County, New Hampshire. On April 30, 2019, Sugar River Hydro filed a letter stating that it is not filing an application to relicense the project. On May 8, 2019, the Commission, pursuant to 18 CFR 16.25(a), issued a notice soliciting potential new applicants for the project, which provided until August 6, 2019 for potential applicants to submit a pre-application document (PAD) and notice of intent (NOI). In response to the solicitation notice, New Hampshire Renewable Resources, LLC (New Hampshire Renewable) filed a PAD and NOI to relicense the Sugar River II Project, pursuant to 18 CFR 5.5 and 5.6 of the Commission's regulations. Commission staff assigned Project No. 15003 for the licensing proceeding initiated by New Hampshire Renewable's filing. On February 8, 2021, New Hampshire Renewable filed an application for a subsequent license for the Sugar River II Project pursuant to the Federal Power Act (FPA) and the Commission's regulations thereunder.

The license for Project No. 10934 was issued for a period ending April 30, 2021. Section 15(a)(1) of the FPA, 16 U.S.C. 808(a)(1), requires the Commission, at the expiration of a license term, to issue from year-to-year an annual license to the then licensee(s) under the terms and conditions of the prior license until a new license is issued, or the project is otherwise disposed of as provided in section 15 or any other applicable section of the FPA. If the project's prior license waived the applicability of section 15 of the FPA, then, based on section 9(b) of the Administrative Procedure Act, 5 U.S.C. 558(c), and as set forth at 18 CFR 16.21(a), if the licensee of such project has filed an application for a subsequent license, the licensee may continue to operate the project in accordance with the terms and conditions of the license after the minor or minor part license expires, until the Commission acts on its application. If the licensee of such a project has not filed an application for a subsequent license, then it may be required, pursuant to 18 CFR 16.21(b), to continue project operations until the Commission issues someone else a license for the project or otherwise orders disposition of the project.

If the project is subject to section 15 of the FPA, notice is hereby given that an annual license for Project No. 10934 is issued to Sugar River Hydro for a period effective May 1, 2021 through April 30, 2022 or until the issuance of a new license for the project or other disposition under the FPA, whichever comes first. If issuance of a new license (or other disposition) does not take place on or before April 30, 2022, notice is hereby given that, pursuant to 18 CFR 16.18(c), an annual license under section 15(a)(1) of the FPA is renewed automatically without further order or notice by the Commission, unless the Commission orders otherwise.

If the project is not subject to section 15 of the FPA, notice is hereby given that Sugar River Hydro is authorized to continue operation of the Sugar River II Project, until such time as the Commission acts on the application for a subsequent license.

Dated: May 13, 2021.
Kimberly D. Bose,
Secretary.

[FR Doc. 2021-10540 Filed 5-18-21; 8:45 am]

BILLING CODE 6717-01-P